FEDERAL ELECTION COMMISSION

Sunshine Act Meetings

AGENCY: Federal Election Commission.

DATE & TIME: Thursday, December 5, 2013 at 10:00 a.m.

PLACE: 999 E Street NW., Washington, DC (Ninth Floor).

STATUS: This meeting will be open to the public.

ITEMS TO BE DISCUSSED:

Correction and Approval of Minutes for October 31, 2013

Draft Interpretive Rule Regarding Date of Political Party Nominations of Candidates for Special Primary Elections in New York

Draft Advisory Opinion 2013-19: Yamaha Motor Corporation, U.S.A.

Audit Division Recommendation Memorandum on the Caesars Entertainment Corporation Political Action Committee (A12-01)

Management and Administrative Matters

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2013-28920 Filed 11-27-13; 4:15 pm]

BILLING CODE 6715-01-P